DEPARTMENT OF DEFENSE

Office of the Secretary

The Joint Staff; National Defense University (NDU), Board of Visitors (BOV); Meeting

AGENCY: National Defense University, Defense.

ACTION: Notice of meeting.

SUMMARY: The President, National Defense University has scheduled a meeting of the Board of Visitors.

DATES: The meeting will be held between 0800-1230 and 1330-1630 on October 2, 2001.

ADDRESSES: The meeting will be held in Room 155B, Marshall Hall, Building 62, Fort Lesley J. McNair, Washington, DC.

FOR FURTHER INFORMATION CONTACT: Assistant Vice President of Academic Affairs, National Defense University Fort Lesley J. McNair, Washington, DC 20319-600. To reserve space, interested persons should phone (202) 685-3930.

SUPPLEMENTARY INFORMATION: The agenda will include present and future educational and research plans for the National Defense University and its components. The meeting is open to the public, but the limited space available for observers will be allocated on a first come, first served basis. Due to administrative oversight, the posting of this meeting in the Federal Register falls short of the normal 15 day notice.

Dated: September 25, 2001.
L.M. Bynum,
Alternate OSD Federal Register Liaison Officer, Department of Defense.

[FR Doc. 01-24440 Filed 9-28-01; 8:45 am]

BILLING CODE 5001-08-M